DEPARTMENT OF COMMERCE

Foreign-Trade Zones Board

[Docket 22-2003]

Proposed Foreign-Trade Zone—Koochiching County, MN; Application and Public Hearing

An application has been submitted to the Foreign-Trade Zones (FTZ) Board (the Board) by the Koochiching Economic Development Authority, to establish a general-purpose foreign-trade zone at sites in Koochiching County, Minnesota, within the International Falls Customs port of entry. The FTZ application was submitted pursuant to the provisions of the FTZ Act, as amended (19 U.S.C. 81a-81u), and the regulations of the Board (15 CFR part 400). It was formally filed on April 30, 2003. The applicant is authorized to make the proposal under Minnesota Statutes, Chapter 469, as amended by Laws of Minnesota 1989.

The proposed zone would consist of three sites covering 718 acres in Koochiching County, Minnesota: Site 1 (1 acre)—International Falls Airport site, southwest corner of U.S. Highway 53 and Van Lynn Road, Koochiching County; Site 2 (707 acres)—KEDA Business Park, intersection of the D.W. & P. rail line and Minnesota Highway 11, City of Ranier (Koochiching County); and, Site 3 (10 acres)—International Falls Business Park, southeast corner of U.S. Highway 53 and 22nd Street, Koochiching County. All three sites are publicly owned.

The application indicates a need for zone services in Koochiching County. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on June 9, 2003, at 7 p.m., International Falls Holiday Inn, 1500 Highway 71, International Falls, Minnesota 56649.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street NW., Washington, DC 20005; or

2. Submissions via the U.S. Postal Service: Foreign-Trade Zones Board, U.S. Department of Commerce, FCB—Suite 4100W, 1401 Constitution Avenue NW., Washington, DC 20230.

The closing period for their receipt is July 7, 2003. Rebuttal comments in response to material submitted during the foregoing period may be submitted during the subsequent 15-day period (to July 21, 2003).

A copy of the application and accompanying exhibits will be available for public inspection at the Office of the Foreign-Trade Zones Board's Executive Secretary at the first address listed above, and at the Office of the Koochiching Economic Development Authority, 405—3rd Street, International Falls, Minnesota 56649.

Dated: April 30, 2003.
Dennis Puccinelli,
Executive Secretary.

[FR Doc. 03-11177 Filed 5-5-03; 8:45 am]

BILLING CODE 3510-DS-P